DEPARTMENT OF THE INTERIOR

Bureau of Safety and Environmental Enforcement

[Docket ID BSEE-2013-0012; OMB Control Number 1014-0022; 14XE1700DX EEEE500000 EX1SF0000.DAQ000]

Information Collection Activities: Oil and Gas and Sulphur Operations in the OCS—General; Proposed Collection; Comment Request

ACTION: 60-day notice.

SUMMARY: To comply with the Paperwork Reduction Act of 1995 (PRA), the Bureau of Safety and Environmental Enforcement (BSEE) is inviting comments on a collection of information that we will submit to the Office of Management and Budget (OMB) for review and approval. The information collection request (ICR) concerns a revision to the paperwork requirements in the regulations under Subpart A, General.

DATES: You must submit comments by May 27, 2014.

ADDRESSES: You may submit comments by either of the following methods listed below.

• Electronically: go to http://www.regulations.gov. In the Search box, enter BSEE-2013-0012 then click search. Follow the instructions to submit public comments and view all related materials. We will post all comments.

• Email nicole.mason@bsee.gov. Mail or hand-carry comments to the Department of the Interior; BSEE; Regulations and Standards Branch; ATTN: Nicole Mason; 381 Elden Street, HE3313; Herndon, Virginia 20170-4817. Please reference ICR 1014-0022 in your comment and include your name and return address.

FOR FURTHER INFORMATION CONTACT: Nicole Mason, Regulations and Standards Branch at (703) 787-1605 to request additional information about this ICR.

SUPPLEMENTARY INFORMATION: Title: 30 CFR part 250, Subpart A, General.

OMB Control Number: 1014-0022.

Form(s): BSEE-0011, BSEE-0132, BSEE-0143, and BSEE-1832.

Abstract: The following authorities pertain to the BSEE regulations: The Outer Continental Shelf (OCS) Lands Act, as amended (43 U.S.C. 1331 et seq. and 43 U.S.C. 1801 et seq.), authorizes the Secretary of the Interior to prescribe rules and regulations necessary for the administration of the leasing provisions of the Act related to the mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BSEE is required to charge fees for services that provide special benefits or privileges to an identifiable non-Federal recipient above and beyond those which accrue to the public at large. A request for approval required in 30 CFR 250.171(e) is subject to cost recovery, and BSEE regulations specify service fees for these requests in 30 CFR 250.125.

The regulations at 30 CFR part 250, Subpart A, concern the general regulatory requirements of oil, gas, and sulphur operations in the OCS (including the associated forms), and are the subject of this collection. This request also covers the related Notices to Lessees and Operators (NTLs) that BSEE issues to clarify, supplement, or provide additional guidance on some aspects of our regulations.

The BSEE uses the information collected under the Subpart A regulations to ensure that operations on the OCS are carried out in a safe and pollution-free manner, do not interfere with the rights of other users on the OCS, and balance the protection and development of OCS resources. Specifically, we use the information collected to:

• Review records of formal crane operator and rigger training, crane operator qualifications, crane inspections, testing, and maintenance to ensure that lessees/operators perform operations in a safe and workmanlike manner and that equipment is maintained in a safe condition. The BSEE also uses the information to make certain that all new and existing cranes installed on OCS fixed platforms must be equipped with anti-two block safety devices, and to assure that uniform methods are employed by lessees for load testing of cranes.

• Review welding plans, procedures, and records to ensure that welding is conducted in a safe and workmanlike manner by trained and experienced personnel.

• Provide lessees/operators greater flexibility to comply with regulatory requirements through approval of alternative equipment or procedures and departures to regulations if they demonstrate equal or better compliance with the appropriate performance standards.

• Ensure that injection of gas promotes conservation of natural resources and prevents waste.

• Record the agent and local agent empowered to receive notices and comply with regulatory orders issued.

• Provide for orderly development of leases through the use of information to determine the appropriateness of lessee/operator requests for suspension of operations, including production.

• Improve safety and environmental protection on the OCS through collection and analysis of accident reports to ascertain the cause of the accidents and to determine ways to prevent recurrences.

• Ascertain when the lease ceases production or when the last well ceases production in order to determine the 180th day after the date of completion of the last production. The BSEE will use this information to efficiently maintain the lessee/operator lease status.

• Allow lessees/operators who exhibit unacceptable performance an incremental approach to improving their overall performance prior to a final decision to disqualify a lessee/operator or to pursue debarment proceedings through the execution of a performance improvement plan (PIP). Subpart A regulations do not address the actual process that we will follow in pursuing the disqualification of operators under §§ 250.135 and 250.136; however, our internal enforcement procedures include allowing such operators to demonstrate a commitment to acceptable performance by the submission of a PIP.

This information collection request has current forms and a new form associated with this collection. We have addressed any and all issues/changes to the forms as follows:

• New Form BSEE-0011, iSEE, Internet-Based Safety and Environmental Enforcement Reporting System, was created to clarify what information is needed when someone reports an apparent violation (§ 250.193). This form was out for comment and published in the Federal Register (78 FR 69118) on November 18, 2013.

• Revisions to Form BSEE-1832, Incident(s) of Noncompliance (INCs), are due to BSEE developing a new electronic process to issue INCs and handle acknowledgements of INCs. The changes on the form pertain to giving the operator options in how to report back to BSEE for reporting the resolution of the issues identified in the INC, either via paper or electronically. The BSEE will continue the option to issue paper INCs and mail paper INCs; however, our inspectors will stop issuing hand-written INCs for most normal inspection violations and, instead, generate an INC on the inspector's tablet PCs. After marking a Preliminary-INC as a violation, the inspector will be able to generate an INC on the tablet and ask the operator to “sign” the tablet. The application will capture the signature and the inspector will generate the INC in PDF format. We also added a certification statement to state that false submissions are subject to criminal penalties.

The Gulf of Mexico OCS Region (GOMR) uses Form BSEE-0132, Hurricane and Tropical Storm Evacuation and Production Curtailment Statistics, to obtain general information such as company name, contact, date, time, telephone number; as well as number of platforms and drilling rigs evacuated and not evacuated, and production shut-in statistics for oil (BOPD) and gas (MMSCFD. We use the information in Form BSEE-0143, Facility/Equipment Damage Report, to assess initial damage and then be aware of changes until the damaged structure or equipment is returned to service; as well as production rate at time of shut-in (BPD and/or MMCFPD), cumulative production shut-in (BPD and/or MMCFPD), and estimated time to return to service (in days). On both forms, we added a certification statement to convey that false submissions are subject to criminal penalties. We will address all comments pertaining to this ICR, including all the forms associated with Subpart A, in our 30-day Federal Register Notice.

We will protect personally identifiable information about individuals according to the Privacy Act (5 U.S.C. 552(a)) and DOI's implementing regulations (43 CFR 2). We will protect proprietary information according to the Freedom of Information Act (5 U.S.C. 552) and its implementing regulations (43 CFR 2); 30 CFR 250.197, Data and information to be made available to the public or for limited inspection; and 30 CFR 252, OCS Oil and Gas Information Program.

Most responses are mandatory, while others are required to obtain or retain benefits, or voluntary.

Frequency: On occasion, daily, weekly, bi-weekly, monthly, and varies by section.

Description of Respondents: Potential respondents include Federal OCS oil, gas, and sulphur lessees/operators.

Estimated Reporting and Recordkeeping Hour Burden: The currently approved annual reporting burden for this collection is 50,859 hours. In this submission, we are requesting a total of 85,344 burden hours. The following chart details the individual components and respective hour burden estimates of this ICR. In calculating the burdens, we assumed that respondents perform certain requirements in the normal course of their activities. We consider these to be usual and customary and took that into account in estimating the burden.

Burden Breakdown
Citation 30 CFR 250 Subpart A; related forms/NTLs | Reporting or recordkeeping requirement * | Non-hour cost burdens: Hour burden | Non-hour cost burdens: Average number of annual responses | Non-hour cost burdens: Annual burden hours (rounded)
Authority and Definition of Terms
104; Form BSEE-1832 | Appeal orders or decisions; appeal INCs | Exempt under 5 CFR 1320.4(a)(2), (c). |  | 0.
Performance Standards
109(a); 110 | Submit welding, burning, and hot tapping plans | 4 | 51 plans | 204.
118; 121; 124 | Apply for injection of gas; use BSEE-approved formula to determine original gas from injected | 10 | 6 applications | 60.
Subtotal |  |  | 57 Responses | 264 Hours.
Cost Recovery Fees
125; 126 | Cost Recovery Fees, confirmation receipt, etc.; verbal approvals pertaining to fees | Cost Recovery Fees and related items are covered individually throughout this subpart. |  | 0.
Forms
130-133; Form BSEE-1832 | Submit “green” response copy of Form BSEE-1832, INC(s), indicating date violations corrected; or submit same info via electronic reporting | 3 | 2,764 forms | 8,292.
145 | Submit designation of agent and local agent for Regional Supervisor' and/or Regional Director's approval | 1 | 9 submittals | 9.
186(a)(3); NTL | Apply to receive administrative entitlements to eWell (electronic/digital form submittals) | Not considered information collection under 5 CFR 1320.3(h)(1). |  | 0.
192; Form BSEE-1832 | Daily report of evacuation statistics for natural occurrence/hurricane (GOMR Form BSEE-0132 (form takes 1 hour)) when circumstances warrant; inform BSEE when you resume production | 3 | 884 reports or forms | 2,652.
192(b) | Use Form BSEE-0143 to submit an initial damage report to the Regional Supervisor | 3 | 4 forms | 12.
192(b) | Use Form BSEE-0143 to submit subsequent damage reports on a monthly basis until damaged structure or equipment is returned to service; immediately when information changes; date item returned to service must be in final report | 1 | 4 forms | 4.
Subtotal |  |  | 3,665 Responses | 10,969 Hours.
Inspection of Operations
130-133 | Request reconsideration from issuance of an INC | 7 | 222 requests | 1,554.
| Request waiver of 14-day response time | 1 | 296 waivers | 296.
| Notify BSEE before returning to operations if shut-in | 1 | 2,026 notices | 2,026.
133, NTL | Request reimbursement within 90 days of inspection for food, quarters, and transportation, provided to BSEE representatives. Submit supporting verifications of the meals, such as a meal log w/inspectors signature | 1.5 | 2 request | 3.
Subtotal |  |  | 2,546 Responses | 3,879 Hours.
Disqualification
135 BSEE internal process | Submit PIP under BSEE implementing procedures for enforcement actions | 40 | 4 plans | 160
Subtotal |  |  | 4 Responses | 160 Hours.
Special Types of Approval
140 | Request various oral approvals not specifically covered elsewhere in regulatory requirements | 2 | 346 requests | 692.
140(c) | Submit letter when stopping approved flaring with required information | Burden covered under 30 CFR 250, Subpart K (1014-0019). |  | 0.
141; 198 | Request approval to use new or alternative procedures, along with supporting documentation if applicable, including BAST not specifically covered elsewhere in regulatory requirements | 22 | 1,430 requests | 31,460.
142; 198 | Request approval of departure from operating requirements not specifically covered elsewhere in regulatory requirements, along with supporting documentation if applicable | 3.5 | 405 requests | 1,418.
Subtotal |  |  | 2,181 Responses | 33,570 Hours.
Naming and Identifying Facilities and Wells (Does Not Include MODUs)
150; 151; 152; 154(a) | Name and identify facilities, artificial islands, MODUs, helo landing facilities etc., with signs | 4 | 597 new/replace-ment signs | 2,388.
150; 154(b) | Name and identify wells with signs | 2 | 286 new wells | 572.
Subtotal |  |  | 883 Responses | 2,960 Hours.
Suspensions
168; 171; 172; 174; 175; 177; 180(b), (d) | Request suspension of operation or production; submit schedule of work leading to commencement; supporting information; include pay.gov confirmation receipt | 10 | 646 requests | 6,460.
|  | $2,123 fee × 646 = $1,371,458.
| Submit progress reports on SOO or SOP as condition of approval | 3 | 335 reports | 1,005.
172(b); 177(a) | Conduct site-specific study; submit results; request payment by another party. No instances requiring this study in several years—could be necessary if a situation occurred such as severe damage to a platform or structure caused by a hurricane or a vessel collision | 100 | 1 study/report | 100.
177(b), (c), (d) | Various references to submitting new, revised, or modified exploration plan, development/production plan, or development operations coordination document | Burden covered under BOEM's 30 CFR 550, Subpart B (1010-0151). |  | 0.
Subtotal |  |  | 982 Responses | 7,565 Hours.
|  |  | $1,371,458 Non-Hour Cost Burden.
Primary Lease Requirements, Lease Term Extensions, and Lease Cancellations
180(a), (h), (i) | Notify and submit report on various lease-holding operations and lease production activities | 1 | 63 reports or notices | 63.
180(f), (g), (h), (i) | Submit various operations and production data to demonstrate production in paying quantities to maintain lease beyond primary term; notify BSEE when you begin conducting operations beyond its primary term | 3 | 384 submissions/notifications | 1,152.
|  | 0.5 |  | 192.
180(e), (j) | Request more than 180 days to resume operations; notify BSEE if operations do not begin within 180 days | 3 | 3 requests/notifications | 9.
|  | 0.5 |  | 1.5.
Subtotal |  |  | 450 Responses | 1,418 Hours.
Information and Reporting Requirements
186; NTL | Submit information and reports, as BSEE requires | 12 | 202 | 2,424.
187; 188(a-b); 189; 190; 192; NTL | Report to the District Manager immediately via oral communication and written follow-up within 15-calendar days, incidents pertaining to: Fatalities; injuries; LoWC; fires; explosions; all collisions resulting in property or equipment damage >$25K; structural damage to an OCS facility; cranes; incidents that damage or disable safety systems or equipment (including firefighting systems); include hurricane reports such as platform/rig evacuation, rig damage, P/L damage, and platform damage; operations personnel to muster for evacuation not related to weather or drills; any additional information required. If requested, submit copy marked as public information | Oral 1.5 | Oral rpt. 505 | 758.
|  | Written 4 | Written rpt. 671 | 2,684.
187(d) | Report all spills of oil or other liquid pollutants | Burden covered under 30 CFR Part 254 (1014-0007). |  | 0.
188(a)(5) | Report to District Manager hydrogen sulfide (H2S) gas releases immediately by oral communication | Burden covered under 30 CFR 250, Subpart D (1014-0018). |  | 0.
191 | Submit written statement/Request compensation mileage and services for testimony re: accident investigation | Exempt under 5 CFR 1320.4(a)(2), (c). |  | 0.
193: Form BSEE-0011 | Report apparent violations or noncompliance | 2 | 7 reports | 14.
194(c) | Report archaeological discoveries | 3 | 7 reports | 21.
195 | Notify District Manager within 5 workdays of putting well in production status (usually oral). Follow-up with either fax/email within same 5 day period (burden includes oral and written) | 1 | 2,040 notifications | 2,040.
196 | Request reimbursement of reproduction and processing costs of G&G data/information requested by the Regional Director | 1 | 1 request | 1.
197(c) | Submit confidentiality agreement | 1 | 1 | 1.
Subtotal |  |  | 3,434 Responses. | 7,943 Hours.
Recordkeeping
108(e) | Retain records of design and construction for life of crane, including installation records for any anti-two block safety devices; all inspection, testing, and maintenance for at least 4 years; crane operator and all rigger personnel qualifications for at least 4 years; all records must be kept at the OCS fixed platform | 4 | 2,011 record-keepers | 8,044.
109(b); 113(c) | Retain welding plan and drawings of safe-welding areas at site; designated person advises in writing that it is safe to weld | 3 | 948 operations | 3,792.
132(b)(3) | During inspections, make records available as requested by inspectors | 4 | 1,195 requests | 4,780.
Subtotal |  |  | 4,154 Responses. | 16,616 Hours.
Total Burden |  |  | 18,356 Responses. | 85,344 Hours.
|  |  | $1,371,458 Non-Hour Cost Burden.
* In the future, BSEE will be allowing the option of electronic reporting for certain requirements.

Estimated Reporting and Recordkeeping Non-Hour Cost Burden: We have identified one non-hour cost burden. Requests for a Suspension of Operations or a Suspension of Production (§ 250.171) requires a cost recovery fee of $2,123. We have not identified any other non-hour cost burdens associated with this collection of information. We estimate a total reporting non-hour cost burden of $1,371,458.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

BSEE Information Collection Clearance Officer: Cheryl Blundon, (703) 787-1607.

Dated: March 20, 2014.
Keith Good,
Senior Advisor.

[FR Doc. 2014-06720 Filed 3-25-14; 8:45 am]

BILLING CODE 4310-VH-P